DEPARTMENT OF COMMERCE

[I.D. 110503D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Economic Surveys for U.S. Commercial Fisheries.

Form Number(s): None.

OMB Approval Number: 0648-0369.

Type of Request: Regular submission.

Burden Hours: 12,299.

Number of Respondents: 9,678.

Average Hours Per Response: The response times for individual surveys will vary from a 10-minute survey added to existing logbooks to 2 hours for full surveys.

Needs and Uses: NOAA is proposing to expand its current clearance for economic data from West Coast commercial fisheries to all U.S. regions. This is a generic approval request. The economic data collected would be used to address statutory and regulatory mandates to determine the quantity and distribution of net benefits derived from living marine resources, as well as to predict the economic impacts from proposed management options on commercial harvesters, shoreside industries, and fishing communities. In particular, the data will be used to meet the requirements of the Magnuson-Stevens Fishery Conservation and Management Act, the National Environmental Policy Act, the Regulatory Flexibility Act, Executive Order 12866, and a variety of state statutes.

Affected Public: Business or other for-profit organizations.

Frequency: On occasion, annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number 202-395-7285, or David_Rostker@omb.eop.gov.

Dated: November 4, 2003.
Gwellnar Banks,
Management Analyst, Office of the Chief Information Officer.

[FR Doc. 03-28381 Filed 11-12-03; 8:45 am]

BILLING CODE 3510-22-S